DEPARTMENT OF COMMERCE

National Oceanic and Atmospheric Administration

[RTID 0648-XB133]

Endangered Species; File No. 25694

AGENCY: National Marine Fisheries Service (NMFS), National Oceanic and Atmospheric Administration (NOAA), Commerce.

ACTION: Notice; receipt of application.

SUMMARY: Notice is hereby given that Carlos Diez, Department of Natural and Environmental Resources of Puerto Rico, P.O. Box 9020708, Viejo San Juan, PR 00901, has applied in due form for a permit to take green (Chelonia mydas) and hawksbill (Eretmochelys imbricata) sea turtles for purposes of scientific research.

DATES: Written, telefaxed, or email comments must be received on or before June 28, 2021.

ADDRESSES: The application and related documents are available for review by selecting “Records Open for Public Comment” from the “Features” box on the Applications and Permits for Protected Species (APPS) home page, https://apps.nmfs.noaa.gov, and then selecting File No. 25694 from the list of available applications. These documents are also available upon written request via email to NMFS.Pr1Comments@noaa.gov.

Written comments on this application should be submitted via email to NMFS.Pr1Comments@noaa.gov. Please include File No. 25694 in the subject line of the email comment.

Those individuals requesting a public hearing should submit a written request via email to NMFS.Pr1Comments@noaa.gov. The request should set forth the specific reasons why a hearing on this application would be appropriate.

FOR FURTHER INFORMATION CONTACT: Amy Hapeman or Jordan Rutland, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant proposes to continue studies of the population structure, trends in relative abundance, distribution, genetics, zoogeography, and epidemiology of green and hawksbill sea turtles in the coastal waters of Puerto Rico. Up to 140 sea turtles of each species would be captured annually by hand or tangle net for photographs, temporary marking, measurements, weights, blood and tissue sampling, and flipper and passive integrated transponder tagging. A subset of 10 turtles of each species would receive a satellite tag (epoxy attachment) prior to release. Another 140 hawksbill turtles and 50 green turtles annually would be harassed during unsuccessful hand captures. The permit would be valid for up to 10 years from the date of issuance.

Dated: May 25, 2021.
Julia Marie Harrison,
Chief, Permits and Conservation Division, Office of Protected Resources, National Marine Fisheries Service.

[FR Doc. 2021-11349 Filed 5-27-21; 8:45 am]

BILLING CODE 3510-22-P